DEPARTMENT OF DEFENSE

Office of the Secretary

Department of Defense Military Family Readiness Council Member Solicitation

AGENCY: Under Secretary of Defense for Personnel and Readiness, Department of Defense (DoD).

ACTION: Notice of Federal Advisory Committee member solicitation.

SUMMARY: The DoD announces the following Federal Advisory Committee member solicitation for the Department of Defense Military Family Readiness Council (MFRC).

FOR FURTHER INFORMATION CONTACT: William Story, (571) 372-5345 (Voice), (571) 372-0884 (Facsimile), OSD Pentagon OUSD P-R Mailbox Family Readiness Council, osd.pentagon.ousd-p-r.mbx.family-readiness-council@mail.mil (Email). Mailing address is: Office of the Deputy Assistant Secretary of Defense (Military Community & Family Policy), Office of Family Readiness Policy, 4800 Mark Center Drive, Alexandria, VA 22350-2300, Room 3G15. A copy of this solicitation notice will be posted on the MFRC website: https://www.militaryonesource.mil/leaders-service-providers/military-family-readiness-council.

SUPPLEMENTARY INFORMATION: Consistent with the Federal Advisory Committee Act (FACA) (5 U.S.C., Appendix), the DoD announces the following Federal Advisory Committee member solicitation for the MFRC. The duties of the MFRC are specified in 10 U.S.C. 1781a(d). The MFRC consists of 18 members, and 3 members are appointed from among representatives of military family organizations, including military family organizations of families of members of the regular components, and of families of members of the reserve components. It is these three positions that the DoD is soliciting nominations.

Forward Nominations for Membership: This notice is a solicitation to fill the three military family organization vacancies on the MFRC. To be considered for nomination, please forward a biography of the nominee describing the professional background and qualifications meeting the above stated criteria. Include a separate detailed description of the nominee's military family organization, its purpose and goals, its programs and work concerning military families, membership size and makeup (officer, enlisted, reserve, guard, both), and recent initiatives.

Submissions may be by email: osd.pentagon.ousd-p-r.mbx.family-readiness-council@mail.mil or by FAX (571) 372-0884 to the MFRC's Designated Federal Officer no later than 11:59 p.m. EST Friday, July 26, 2019.

Note: Nominees must be U.S. citizens and cannot be registered federal lobbyists. Individuals appointed by the Secretary of Defense to serve on the MFRC will be appointed as experts and consultants under the authority of 5 U.S.C. 3109 to serve as special governmental employee members and will be required to comply with all DoD ethics requirements. Nominees must pass a security background check. In addition, those appointed will serve without compensation except for travel and per diem in conjunction with official MFRC business.

Dated: July 2, 2019.
Aaron T. Siegel,
Alternate OSD Federal Register Liaison Officer, Department of Defense.

[FR Doc. 2019-14430 Filed 7-5-19; 8:45 am]

BILLING CODE 5001-06-P